DEPARTMENT OF HEALTH AND HUMAN SERVICES

Centers for Disease Control and Prevention

[30DAY-01-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Evaluating CDC Funded Health Department HIV Prevention Programs—New—The Centers for Disease Control and Prevention (CDC), National Center for HIV, STD, and TB Prevention (NCHSTP), proposes a collection of standardized HIV evaluation data from health department grantees to ensure delivery of the best possible HIV prevention services. The CDC needs standardized evaluation data from health department grantees for the following reasons: (1) To determine the extent to which HIV prevention efforts have contributed to a reduction in HIV transmission, (2) to improve programs to better meet that goal, (3) to help focus technical assistance and support and (4) to be accountable to stakeholders by informing them of progress made in HIV prevention nationwide.

CDC and its prevention partners have specifically identified the types of standardized evaluation data they need to be accountable for the use of federal funds and to conduct systematic analysis of HIV prevention to improve policies and programs. Generally, evaluation data that are needed (but not yet available at the national level) include the types and quality of HIV prevention interventions provided by CDC health department grantees and their grantees, the characteristics of clients targeted and reached by the interventions, and the effects of interventions on client behavior and HIV transmission.

The annual burden hours are estimated to be 1248.

Respondents | No. of respondents | No. of forms per jurisdiction | No. of responses per respondent (per yr.) | Average burden per response (in hrs.)
Health Department Grantees | 65 | 16 | 1 | 1.2

Dated: January 10, 2001.
Nancy E. Cheal,
Acting Associate Director for Policy, Planning and Evaluation, Centers for Disease Control and Prevention (CDC).

[FR Doc. 01-1297 Filed 1-16-01; 8:45 am]

BILLING CODE 4163-18-P